DEPARTMENT OF COMMERCE

International Trade Administration

[Application No. 84-23A12]

Export Trade Certificate of Review

ACTION: Notice of issuance of an Export Trade Certificate of Review to Northwest Fruit Exporters, Application No. 84-23A12.

SUMMARY: The U.S. Department of Commerce issued an amended Export Trade Certificate of Review to Northwest Fruit Exporters on December 21, 2012. The Certificate has been amended twenty three times. The previous amendment was issued on August 12, 2011 (76 FR 55010, Sept. 6, 2011). The original Certificate was issued on June 11, 1984 (49 FR 24581, June 14, 1984).

FOR FURTHER INFORMATION CONTACT: Joseph E. Flynn, Director, Office of Competition and Economic Analysis, International Trade Administration, by telephone at (202) 482-5131 (this is not a toll-free number) or email at etca@trade.gov.

SUPPLEMENTARY INFORMATION: Title III of the Export Trading Company Act of 1982 (15 U.S.C. 4001-21) authorizes the Secretary of Commerce to issue Export Trade Certificates of Review. The regulations implementing Title III are found at 15 CFR Part 325 (2010). The U.S. Department of Commerce, International Trade Administration, Office of Competition and Economic Analysis (“OCEA”) is issuing this notice pursuant to 15 CFR 325.6(b), which requires the Secretary of Commerce to publish a summary of the issuance in the Federal Register. Under Section 305(a) of the Export Trading Company Act (15 U.S.C. 4012(b)(1)) and 15 CFR 325.11(a), any person aggrieved by the Secretary's determination may, within 30 days of the date of this notice, bring an action in any appropriate district court of the United States to set aside the determination on the ground that the determination is erroneous.

Description of Certified Conduct

NWF's Export Trade Certificate of Review has been amended to:

1. Add the following companies as a new Members of the Certificate within the meaning of section 325.2(l) of the Regulations (15 CFR 325.2(l)): Jenks Bros Cold Storage & Packing (Royal City, WA), HoneyBear Growers, Inc (Brewster, WA), and Crown Packing, LLC (Wenatchee, WA); and

2. Remove the following companies as a Member of NWF's Certificate: J & D Packing, LLC (Outlook, WA), Oregon Cherry Growers (Salem, OR), and Prentice Packing & Storage (Yakima, WA); and

3. Change the name of the following member: Conrad & Adams Fruit LLC is now Conrad & Adams Fruit L.L.C. (Grandview, WA).

The effective date of the amended certificate is October 3, 2012, the date on which NWF's application to amend was deemed submitted. A copy of the amended certificate will be kept in the International Trade Administration's Freedom of Information Records Inspection Facility, Room 4001, U.S. Department of Commerce, 14th Street and Constitution Avenue NW., Washington, DC 20230.

Dated: January 3, 2013.
Joseph E. Flynn,
Office Director, Office of Competition and Economic Analysis.

[FR Doc. 2013-00187 Filed 1-8-13; 8:45 am]

BILLING CODE 3510-DR-P